ENVIRONMENTAL PROTECTION AGENCY

[ER-FRL-9006-5]

Environmental Impacts Statements; Notice of Availability

Responsible Agency: Office of Federal Activities, General Information (202) 564-7146 or http://www.epa.gov/compliance/nepa/.

Weekly receipt of Environmental Impact Statements

Filed 12/03/2012 Through 12/07/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120379, Final EIS, BLM, CA, West Chocolate Mountains Renewable Energy Evaluation Area, Proposed California Desert Conservation Area Plan Amendment, Imperial County, CA, Review Period Ends: 01/14/2013, Contact: Sandra McGinnis 916-978-4427.

EIS No. 20120380, Draft EIS, BLM, AK, Ring of Fire Resource Management Plan Amendment, Haines Block Planning Area, Southeast Alaska, Comment Period Ends: 03/14/2013, Contact: Molly Cobbs 907-267-1221.

EIS No. 20120381, Draft Supplement, NRC, TX, GENERIC—License Renewal of Nuclear Plants Supplement 48 Regarding South Texas Project, Units 1 and 2 (NUREG 1437) Matagorda County, TX, Comment Period Ends: 02/22/2013, Contact: Tam Tran 301-415-3617.

EIS No. 20120382, Draft Supplement, FTA, MN, Central Corridor Light Rail Transit Project, Construction-Related Potential Impacts on Business Revenue, St. Paul and Twin Cities Metropolitan Area, MN, Comment Period Ends: 01/30/2013, Contact: Maya Sarna 202-366-5811

EIS No. 20120383, Draft EIS, USACE, CA, Gregory Canyon Landfill, Application for Permit Authorizing Discharge of Fill in U.S. Waters, San Diego County, CA, Comment Period Ends: 02/12/2013, Contact: William H. Miller 602-230-6954.

EIS No. 20120384, Final EIS, BLM, NV, Searchlight Wind Energy Project, NVN-084626 and NVN-086777, Application for Right-of-Way Grant on Public Land to Develop, Construct, Operate, Maintain and Decommission of a 200 megawatt Wind Energy Facility, USACE Section 404 Permit, Clark County, NV, Review Period Ends: 01/14/2013, Contact: Gregory Helseth 702-515-5173

EIS No. 20120385, Final EIS, DOE, WA, Hanford Site Tank Closure and Waste Management Project, Richland, Benton County, WA, Review Period Ends: 01/14/2013, Contact: Mary Beth Burandt 888-829-6347.

EIS No. 20120386, Final EIS, FTA, MD, Red Line Project, Implementation of a new East-West Light Rail Transit Alignment, Baltimore County, MD, Review Period Ends: 01/28/2013, Contact: Daniel Koenig 202-219-3528.

Amended Notices

EIS No. 20120334, Draft EIS, USFS, OR, Oregon Dunes NRA Management Area 10(C) Designated Routes Project, Central Coast Ranger District, Oregon Dunes National Recreation Area, Siuslaw National Forest, Coos, Douglas, and Lane Counties OR, Comment Period Ends: 01/24/2013, Contact: Angie Morris 541-271-6040. Revision to FR Notice Published 10/26/2012; Extending Comment from 12/10/2012 to 01/24/2013.

Dated: December 11, 2012.
Cliff Rader,
Director, NEPA Compliance Division, Office of Federal Activities.

[FR Doc. 2012-30237 Filed 12-13-12; 8:45 am]

BILLING CODE 6560-50-P